DEPARTMENT OF HEALTH AND HUMAN SERVICES

National Institutes of Health

Center for Scientific Review; Amended Notice of Meeting

Notice is hereby given of a change in the meeting of the Center for Scientific Review Special Emphasis Panel, May 26, 2023, 10:00 a.m. to 2:00 p.m., National Institutes of Health, 6701 Rockledge Drive, Bethesda, MD 20892, which was published in the Federal Register on May 3, 2023, FR Doc. No. 2023-09379, 88 FR 27918.

This notice is being amended to change the Panel Name of the meeting from Center for Scientific Review Special Emphasis Panel to Center for Scientific Review Special Emphasis Panel PAR-22-233: Time-Sensitive Opportunities for Health Research. The meeting is closed to the public.

Dated: May 15, 2023.
Melanie J. Pantoja,
Program Analyst, Office of Federal Advisory Committee Policy.

[FR Doc. 2023-10648 Filed 5-17-23; 8:45 am]

BILLING CODE 4140-01-P